DEPARTMENT OF DEFENSE

Department of the Army

Performance Review Board Membership

AGENCY: Department of the Army, DoD.

ACTION: Notice.

SUMMARY: Notice is given of the names of members of a Performance Review Board for the Department of the Army.

DATES: September 30, 2004.

FOR FURTHER INFORMATION CONTACT: Marilyn Ervin, U.S. Army Senior Executive Service Office, Assistant Secretary of the Army, Manpower & Reserve Affairs, 111 Army, Washington, DC 20310-0111.

SUPPLEMENTARY INFORMATION: Section 4314(c) (1) through (5) of Title 5, U.S.C., requires each agency to establish, in accordance with regulations, one or more Senior Executive Service performance review boards. The boards shall review and evaluate the initial appraisal of senior executives' performance by supervisors and make recommendations to the appointing authority or rating official relative to the performance of these executives.

The members of the Performance Review Board for the Headquarters (HQ), U.S. Army Materiel Command (AMC) are:

1. Mr. Fred Allen, Chief Counsel, U.S. Army Aviation and Missile Command (AMCOM).

2. Dr. Benson Adams, Special Assistant to the Executive Deputy to the Commanding General for AMC Transformation Integration.

3. Ms. Sue Baker, Principal Deputy, G-3, HQ, AMC.

4. Mr. Niels Biamon, Deputy for Operations, G-3, HQ, AMC.

5. Mr. James Buckner, Chief Information Officer, G-6, HQ, AMC.

6. Ms. L. Marlene Cruze, Executive Director, Acquisition Center, AMCOM, AMC.

7. Mr. Ronald J. Davis, Jr., Deputy for Industrial Operations, G-3, HQ, AMC.

8. Mr. Michael P. Devine, Technical Director for Armament, Armament RD&E Center, RDECOM, AMC.

9. MG John C. Doesburg, Commanding General, RDECOM, AMC.

10. Dr. Michael Drillings, Director for Manprint, G-1, HQ, Department of the Army.

11. Mr. Victor Ferlise, Deputy to the Commander, Communications-Electronics Command (CECOM), AMC.

12. Dr. Robert Foster, Director, BioSystems, Office of the Assistant Secretary of Defense (Acquisition, Technology and Logistics).

13. LTG Richard Hack, Deputy Commanding General, AMC.

14. MG Craig D. Hackett, Commanding General, U.S. Army Security Assistance Command, AMC.

15. BG Paul Izzo, Deputy Commanding General, Homeland Operations, RDECOM, AMC.

16. BG Jerome Johnson, Commanding General, Army Field Support Command (AFSC), AMC.

17. Mr. Gregory Kee, Deputy for Future Operations, G-3, HQ, AMC.

18. Dr. Thomas Killion, Deputy Assistant Secretary for Research and Technology/Chief Scientist, Office of the Assistant Secretary of the Army (Acquisition, Logistics & Technology).

19. Mr. Anthony LaPlaca, Director, Logistics and Readiness Center, CECOM, AMC.

20. Mr. John Lawkowski, Assistant Deputy Chief of Staff, G-8, HQ, AMC.

21. Ms. Barbara Leiby, Deputy Chief of Staff, G-8, HQ, AMC.

22. BG William M. Lenaers, Commanding General, U.S. Army Tank-Automotive Command, AMC.

23. Mr. Ronald B. Lewis, Deputy for Enterprise Integration, G-3, HQ, AMC.

24. MG Michael R. Mazzucchi, Commanding General, CECOM, AMC.

25. Dr. Richard McClelland, Director, Tank-Automotive RD&E Center, RDECOM, AMC.

26. Mr. Daniel Mehney, Director, Acquisition Center, U.S. Army Tank-Automotive Command (TACOM), AMC.

27. Mr. A. David Mills, Executive Deputy to the CG, AMC.

28. Dr. A. Fenner Milton, Director, Night Vision and Electronic Sensor, CECOM, AMC.

29. Dr. Walter F. Morrison, Jr., Deputy Director Engineer R&D Center, U.S. Army Corps of Engineers (USACE).

30. Mr. Gary Motsek, Deputy for Support Operations, G-3, HQ, AMC.

31. BG Roger Nadeau, Deputy Commanding General, Systems of Systems Integration (SOSI), RDECOM, AMC.

32. Mr. Michael Parker, Director, U.S. Army Chemical Materials Agency, AMC.

33. Mr. Jeffrey Parsons, Director of Contracting, HQ, AMC.

34. MG James Pillsbury, Commanding General, AMCOM, AMC.

35. BG James W. Rafferty, Commanding General, Joint Munitions Command, AFSC, AMC.

36. Mr. Michael Schexnayder, Associate Director for Systems Missiles, RD&E Center, RDECOM, AMC.

37. Mr. Anthony Sconyers, Chief Counsel, AFSC, AMC.

38. Mr. David Shaffer, Director, U.S. Army Materiel Systems Analysis Activity, AMC.

39. Mr. Brian Simmons, Deputy to the Commander and Technical Director, ATEC.

40. MG Mitchell H. Stevenson, Deputy Chief of Staff, G-3, HQ, AMC.

41. Ms. Kathryn Szymanski, Command Counsel, HQ, AMC.

42. Mr. Edward Thomas, Director, Software Engineering Center, CECOM, AMC.

43. MG N. Ross Thompson III, Commanding General, TACOM, AMC.

44. MG Harry J. Phillips, Jr., Asst. DCG for Reserve Affairs, HQ, AMC.

45. BG Mark Montjar, Assist. DCS, OPNS (Mobilization), G3, HQ, AMC.

46. Dr. Richard W. Amos, Deputy to the Commanding General, AMCOM, AMC.

47. Dr. Robin B. Buckelew, Director, Missile Guidance, AMRDEC, RDECOM, AMC.

The members of the Performance Review Board for the Army Acquisition Executive (AAE) Corps are:

1. Edward Bair, Program Executive Officer, Intelligence, Electronic Warfare, and Sensors, AAE.

2. MG Joseph L. Bergantz, Program Executive Officer, Aviation.

3. Dr. James T. Blake, Deputy to the Commander, PEO STRI.

4. Paul Bogosian, Deputy Program Executive for Aviation, AAE.

5. T. Kevin Carroll, Program Executive Officer, Standard Army Multicommand Management Information System (STAMIS), AAE.

6. Kevin M. Fahey, Deputy PEO, Ground Combat Systems.

7. Kevin J. Flamm, Program Manager for Chemical Demilitarization Operations OASA (Acquisition, Logistics & Technology).

8. Joann H. Langston, Director, Northern Region, U.S. Army Contracting Agency.

9. BG Michael R. Mazzucchi, Program Executive Officer, Command, Control, and Communications (Tactical).

10. Dr. Steven L. Messervy, Program Manager, Joint Simulation Systems, Army Acquisition Executive Support Agency.

11. BG Patrick O'Reilly, Deputy Program Officer.

12. Michael A. Parker, Director, Chemical Materials Agency.

13. Shelba J. Proffitt, Deputy Program Executive Officer, Air and Missile Defense, AAE.

14. Sandra O. Sieber, Director, Army Contracting Agency.

15. BG Jeffrey A. Sorenson, Program Executive Officer, Tactical Missiles.

16. MG John M. Urias, Program Executive Officer.

17. MG Joseph L. Yakovac, Program Executive Officer.

The members of the Performance Review Board for the Consolidated Commands are:

1. Mr. Michael F. Bauman, Director, U.S. Army Training and Doctrine Command Analysis Center.

2. BG Leo A. Brooks, Jr., Vice Director of the Army Staff.

3. Mr. Laurence H. Burger, Director, Space and Missile Defense Battle Laboratory, U.S. Army Space and Missile Defense Command.

4. Mr. William J. Cooper, Special Assistant for Transportation Engineering Agency/Executive Director TEA.

5. Dr. Charles N. Davidson, Director, U.S. Army Nuclear and Chemical Agency.

6. Ms. Jeannie A. Davis, Assistant Deputy Chief of Staff for Personnel and Installation Management (Civilian Personnel).

7. Dr. Henry C. Dubin, Chief Scientist, U.S. Army Space and Missile Defense Command.

8. MG Ann Dunwoody, Commander, U.S. Army Combined Arms Support Command (CASCOM) and Fort Lee.

9. MG Paul D. Eaton, Deputy Chief of Staff for Operations and Training, U.S. Army Training and Doctrine Command (TRADOC).

10. Mr. Thomas J. Edwards, Deputy to the Commander, CASCOM.

11. BG Charles W. Fletcher, Commander, Military Surface Deployment and Distribution Command (SDDC).

12. Mr. Jess F. Granone, Director, Space and Missile Defense Technical Cente, U.S. Army Space and Missile Defense Command.

13. Ms. Vicky Jefferis, Deputy Chief of Staff for Resource Management, Headquarters, Forces Command.

14. Ms. Jeanne Karstens, Deputy Chief of Staff for Resource Management, Headquarters, U.S. Army, Europe.

15. Mr. J. Stephen Koons, Assistant Deputy Chief of Staff for Logistics, Headquarters, Forces Command.

16. Mr. Darell G. Lance, Chief of Staff, U.S. Intelligence and Security Command.

17. Dr. Michael J. Lavan, Director, Advanced Technology Directorate, U.S. Army Space and Missile Defense Command.

18. Mr. William R. Lucas, Jr., Deputy to the Commander, SDDC.

19. Mr. Ronald G. Magee, Director of Operations, U.S. Army Training and Doctrine Command Analysis Center.

20. Mr. Maxie L. McFarland, Deputy Chief of Staff for Intelligence, U.S. Army Training and Doctrine Command.

21. Mr. Thomas V. Meeks, Technical Advisor-Sustaining Base/Quality of Life Affairs, U.S. Southern Command.

22. Mr. John C. Metzler, Jr., Director of Cemetery Operations, Arlington National Cemetery, Military District of Washington.

23. MG Robert W. Mixon, Jr., Deputy Chief of Staff, Futures Center, U.S. Army Training and Doctrine Command.

24. Mr. Robert L. Moore, Deputy Director, Logistics and Security Assistance, Headquarters, U.S. European Command.

25. Mr. Jerry V. Proctor, Deputy for Futures, U.S. Army Intelligence Center and Fort Huachuca.

26. Mr. William C. Reeves, Jr., Director, Integration/Interoperability for Missile Defense, U.S. Army Space and Missile Defense Command.

27. Mr. Allan M. Resnick, Assistant Deputy Chief of Staff for Combat Development, U.S. Army Training and Doctrine Command.

28. Mr. Rodney Robertson, Director, Sensors Directorate, U.S. Army Space and Missile Defense Command.

29. BG Mark Scheid, Director, G-3.

30. Mr. Robert E. Seger, Assistant Deputy Chief of Staff for Training Policy, Plans and Programs, U.S. Army Training and Doctrine Command.

31. Mr. Mark Allen Smith, Deputy Director of Intelligence, U.S. Southern Command.

32. BG Warner Sumpter, Acting Commander, U.S. Army Intelligence Center and Fort Huachuca/Commandant, U.S. Army Intelligence School.

33. Ms. Donna K. Vargas, Director of Operations, U.S. Army Training and Doctrine Command Analysis Center.

The members of the Performance Review Board for the Office of the Secretary of the Army are:

1. Mr. John J. Argodale, Deputy Assistant Secretary of the Army (Financial Operations), Office of the Assistant Secretary of the Army (Financial Management and Comptroller).

2. Mr. William A. Armbruster, Deputy Assistant Secretary of the Army for Privatization and Partnership, Office of the Assistant Secretary of the Army (OASA) (Installations and Environment).

3. Ms. Diane J. Armstrong, Director for C4/IT Investment, Integration and Evaluation, Office of the Chief Information Officer/G-6.

4. Mr. Stephen Bagby, Deputy Assistant Secretary of the Army (Cost and Economics), Office of the Assistant Secretary of the Army (Financial Management and Comptroller).

5. Ms. Earnestine Ballard, Deputy Assistant Secretary of the Army for Procurement and Policy, Office of the Assistant Secretary of the Army (Acquisition, Logistics & Technology).

6. Mr. Vernon Bettencourt, Jr., Deputy Chief Information Officer, Office of the Chief Information Officer/G-6.

7. Mr. William H. Campbell, Assistant to the Deputy Assistant Secretary of the Army (Budget), Office of the Assistant Secretary of the Army (Financial Management and Comptroller).

8. Mr. Joe C. Capps, Director, Enterprise Systems Technology Activity, NETCOM/9th Army Signal Command.

9. Dr. Craig E. College, Deputy Assistant Secretary of the Army (Infrastructure Analysis), Office of the Assistant Secretary of the Army (Installations and Environment).

10. Mr. James C. Cooke, Special Assistant for Systems, Office of the Deputy Under Secretary of the Army.

11. Mr. Donald L. Damstetter, Jr., Deputy Assistant Secretary of the Army for Plans, Programs and Resources, Office of the Assistant Secretary of the Army (Acquisition, Logistics and Technology).

12. Mr. Daniel B. Denning, Principal Deputy Assistant Secretary of the Army (Manpower and Reserve Affairs)/Deputy Assistant Secretary (Training, Readiness and Mobilization).

13. Mr. Thomas Druzgal, Deputy Auditor General, Acquisition and Logistics Audits, U.S. Army Audit Agency.

14. Mr. George S. Dunlop, Principal Deputy Assistant Secretary of the Army (Civil Works)/Deputy Assistant Secretary of the Army (Legislation).

15. Mr. Raymond J. Fatz, Deputy Assistant Secretary of the Army for Environment, Safety, and Occupational Health, Office of the Assistant Secretary of the Army (Installations and Environment).

16. Mr. Patrick J. Fitzgerald, Principal Deputy Auditor General, U.S. Army Audit Agency.

17. Dr. John B. Foulkes, Director, Test and Evaluation Management Agency, Office of the Chief of Staff.

18. Dr. Michael L. Gentry, Technical Director/Chief Engineer, NETCOM 9th Army Signal Command.

19. Mr. Ernest J. Gregory, Principal Deputy Assistant Secretary of the Army (Financial Management and Comptroller).

20. Ms. Judith A. Guenther, Director of Investments, Office of the Assistant Secretary of the Army (Financial Management and Comptroller).

21. MG Lynn Hartsell, Director Army Budget, Office of the Assistant Secretary of the Army (Financial Management and Comptroller).

22. Mr. Walter W. Hollis, Deputy Under Secretary of the Army (Operations Research), Office of the Under Secretary of the Army.

23. Mr. Joel B. Hudson, Administrative Assistant to the Secretary of the Army.

24. Mr. Craig D. Hunter, Deputy Assistant Secretary of the Army for Defense Exports and Cooperation, Office of the Assistant Secretary of the Army (Acquisition, Logistics & Technology).

25. Dr. Daphne K. Kamely, Special Assistant to the Deputy Assistant Secretary of the Army for Environment, Safety, and Occupational Health, Office of the Assistant Secretary of the Army (Installations and Environment).

26. Mr. Thomas E. Kelly, III, Executive Director, Strategy and Performance Planning, Office of the Assistant Secretary of the Army (Acquisition, Logistics & Technology).

27. Dr. Thomas H. Killion, Deputy Assistant Secretary for Research and Technology/Chief Scientist, Office of the Assistant Secretary of the Army (Acquisition, Logistics & Technology).

28. Ms. Joann H. Langston, Director, Northern Region, U.S. Army Contracting Agency.

29. Mr. John P. McLaurin, III, Deputy Assistant Secretary of the Army (Human Resources), Office of the Assistant Secretary of the Army (Manpower and Reserve Affairs).

30. Mr. Wesley C. Miller, Director of Management and Control, Office of the Assistant Secretary of the Army (Financial Management and Comptroller).

31. Ms. Joyce E. Morrow, The Auditor General, U.S. Army Audit Agency.

32. Mr. Levator Norsworthy, Jr., Deputy General Counsel (Acquisition), Office of the General Counsel.

33. Mr. Dale Ormand, Deputy Assistant Secretary of the Army for Elimination of Chemical Weapons, Office of the Assistant Secretary of the Army (Acquisition, Logistics & Technology).

34. Dr. John A. Parmentola, Director, Research and Laboratory Management, Office of the Assistant Secretary of the Army (Acquisition, Logistics & Technology).

35. Ms. Tracey L. Pinson, Director of Small and Disadvantaged Business Utilization, Office of the Secretary.

36. Mr. Dean Popps, Principal Deputy to the Assistant Secretary of the Army (Acquisition, Logistics and Technology)/Director for Iraq Reconstruction and Program Management.

37. Mr. Geoffrey G. Prosch, Principal Deputy Assistant Secretary of the Army (Installations and Environment).

38. Mr. Wimpy D. Pybus, Deputy Assistant Secretary of the Army for Integrated Logistics Support, Office of the Assistant Secretary of the Army (Acquisition, Logistics and Technology).

39. Mr. Matt Reres, Deputy General Counsel (Ethics and Fiscal), Office of the General Counsel.

40. Ms. Sandra R. Riley, Deputy Administrative Assistant Secretary of the Army, Office of the Secretary.

41. Mr. Luther L. Santiful, Director for Equal Employment Opportunity/Civil Rights, U.S. Army Civilian Personnel Field Agency.

42. Mr. Richard G. Sayre, Special Assistant for Systems, Office of the Deputy Under Secretary of the Army.

43. Mr. Karl F. Schneider, Deputy Assistant Secretary of the Army (Army Review Boards Agency), Office of the Director.

44. Mr. Matthew L. Scully, Director of Business Resources, Office of the Assistant Secretary of the Army (Financial Management and Comptroller).

45. Mr. C. Russell Shearer, Special Assistant to the Assistant Secretary of the Army (Installations and Environment).

46. Ms. Sandra O. Sieber, Director, Army Contracting Agency.

47. BG Jeffrey Sorenson, Deputy for Acquisition and Systems Management, Office of the Assistant Secretary of the Army (Acquisition, Logistics and Technology).

48. Mr. John C. Speedy, III, Deputy Director for Army International Affairs. Office of the Deputy Chief of Staff, G-3.

49. Mr. Donald W. Spigelmyer, Executive Director, Residential Communities Initiatives, Office of the Assistant Secretary of the Army (Installations & Environment).

50. MG Edgar Stanton, Deputy Assistant Secretary of the Army (Budget), Office of the Assistant Secretary of the Army (Financial Management and Comptroller).

51. Mr. Earl H. Stockdale, Jr., Deputy General Counsel (Civil Works and Environment), Office of the General Counsel.

52. Mr. Thomas W. Taylor, Senior Deputy General Counsel, Office of the General Counsel.

53. Ms. Claudia L. Tornblom, Deputy Assistant Secretary of the Army (Management and Budget), Office of the Assistant Secretary of the Army (Civil Works).

54. Ms. Carla A. Von Bernewitz, Director, Business Transformation Task Force, Office of the Under Secretary.

55. MG David F. Wherley, Jr., Director, District of Columbia National Guard, Office of the Secretary.

56. Mr. Joseph W. Whitaker, Jr., Deputy Assistant Secretary of the Army (Installations & Housing), Office of the Assistant Secretary of the Army (Installations & Environment).

57. Miss Sarah F. White, Deputy Assistant Secretary of the Army (Force Management, Manpower and Resources), Office of the Assistant Secretary of the Army (Manpower and Reserve Affairs).

58. Mr. Avon N. Williams, Principal Deputy General Counsel, Office of the General Counsel.

59. Mr. Robert J. Winchester, Assistant for Intelligence Liaison, Office, Chief of Legislative Liaison.

60. Mr. Gary L. Winkler, Director for Enterprise Management, Office of the Chief Information Officer/G-6.

The members of the Performance Review Board for the U.S. Army, Chief of Staff of the Army, are:

1. MG Dorian T. Anderson, Commanding General, United States Army Human Resources Command.

2. Mr. Brian Barr, Technical Director, U.S. Army Test and evaluation Comma.

3. Ms. Jean M. Bennett, Director, Resources and Infrastructure Office of the Deputy Chief of Staff. G-2.

4. Dr. C. David Brown, Director for Test and Technology, U.S. Army Developmental Test Command.

5. BG Sean Byrne, Director of Military of Personnel Policy.

6. Dr. Jeffrey J. Clarke, Chief Historian, U.S. Army Center of Military History.

7. Ms. Kathryn A. Condon, Assistant Deputy Chief of Staff, G-3 Homeland Secretary, Training and Simulation.

8. Mr. William F. Crain, Technical Advisor to the Deputy Chief of Staff, G-3.

9. Ms. Diane M. Devens, Regional Director (Northeast), U.S. Army Installation Management Agency.

10. Dr. Michael Drillings, Director, for Manprint Directorate, Office of the Deputy Chief of Staff, G-1.

11. Mr. Hugh M. Exton, Jr., Regional Director (Southwest), U.S. Army Installation Management Agency.

12. MG George R. Fay, Assistant Deputy Chief of Staff, G-2.

13. Mr. Terrance M. Ford, Assistant Deputy Chief of Staff, G-2.

14. Mr. Thomas A. Gandy, Director, Counterintelligence, Human Intelligence, Security and Disclosure, Office of the Deputy Chief, of staff G-2.

15. Mr. James Gunlicks, Deputy Director, Training, Office of the Deputy Chief of Staff. G-3.

16. Mr. Russell B. Hall, Regional Director (Europe) Installation Management Agency.

17. MG John Hawkins, Assistant G-1 for Reserve and Mobilization.

18. Ms. Lois O. Hickey, Director of Army Personnel Transformation, Office of the Deputy Chief of Staff, G-1.

19. MG Ronald L. Johnson, Director, Installation Management Agency.

20. Mr. Robert N. Kittel, Special Assistant to the Judge advocate General for Regulatory Law and Intellectual Property, U.S. Army Legal Services Agency.

21. Mr. Mark R. Lewis, Assistant Deputy Chief of Staff, G-1.

22. Ms. Maureen T. Lischke, Program Executive Officer for Information Systems and Chief Information Officer, National Guard Bureau.

23. BG John A. Macdonald, Regional Director (Korea), Installation Management Agency.

24. Ms. An M. McFadden, Chief, Policy and Program Development Division, Office of the Deputy Chief of Staff, G-1.

25. GB Keith McNamara Commander, DTC.

26. Ms. Janet C. Menig, deputy Assistant Chief of Staff for Installation Management.

27. Mr. John L. Miller, Financial Manager, Resource Management Office, U.S. Army Installation Management Agency.

28. BG James R. Myles, Commander, Headquarters, Army Test and Evaluation Command.

29. Mr. William P. Neal, Associate Director, Force Projection and Distribution, Office of the Deputy Chief of Staff, G-4.

30. Mr. John B. Nerger, Director, Facilities, Housing and Environment, Office of the Assistant Chief of Staff for Installation Management.

31. Mr. Mark J. O'Konski, Executive Director, U.S. Army Logistics Integration Agency.

32. Mr. Eric A. Orsini, Special assistant to the Deputy chief of Staff, G-4.

33. Mr. Harold C. Pasini, Jr., Technical Director, Test and Experimentation Command.

34. Mr. Dean E. Pfoltzer, Deputy Director, Program, Analysis and Evaluation, Office of the Deputy Chief of Staff, G-8.

35. Ms. Modell Plummer, Associate Director of Sustainment, Office of the Deputy Chief of Staff, G-4.

36. Mr. Joseph H. Plunkett, Regional Director (Southeast), U.S. Army Installation Management Agency.

37. Mr. James R. Robinson, Regional Director (Northwest), Office of the Assistant Chief of Staff for Installation Management.

38. Mr. Philip E. Sakowitz, Deputy, Installation Management Agency.

39. Mr. Brian M. Simmons, Deputy to the Commander and Technical Director, U.S. Army Developmental Test Command.

40. Mr. Zita M. Simutis, Director and Chief Psychologist, Army Research Institute.

41. Mr. Stanely E. Sokolowski, Regional Director (Pacific), Office of the Assistant Chief of Staff for Installation Management.

42. Mr. John C. Speedy, III, Deputy Director for Army International Affairs, Office of the Deputy Chief of Staff, G-3.

43. Mr. Lewis S. Steerod, Director of Modernization, Office of the Deputy Chief of Staff, G-8.

44. Mr. James J. Streilein, Director, Army Evaluation Center, U.S. Army Test and Evaluation Command.

45. Ms. Elizabeth B. Throckmorton, Director, Civilian Personnel Management, Office of the Deputy Chief of Staff, G-1.

46. Mr. Donald C. Tison, Assistant Deputy Chief of Staff for Programs, Office of the Deputy chief of Staff G-8.

47. Mr. Michael L. Vajda, Director, Civilian Human Resources Agency.

48. Mr. Edgar B. Vandiver, III, Director, U.S. Army Center for Army Analysis.

49. MG David P. Wherley, Jr., Commander, DC National Guard.

Brenda S. Bowen,
Army Federal Register Liaison Officer.

[FR Doc. 04-22572 Filed 10-6-04; 8:45 am]

BILLING CODE 3710-08-M